DEPARTMENT OF TRANSPORTATION

Federal Railroad Administration

Notice of Application for Approval of Informational Filing

In accordance with Part 236 of Title 49 Code of Federal Regulations and 49 U.S.C. 20502(a), this document provides the public notice that BNSF Railway (BNSF) has petitioned the Federal Railroad Administration (FRA) for approval of Informational Filing (IF) for its Radar-Based Vehicle Detection System (RB-VDS). FRA assigned the petition Docket Number FRA-2006-23686.

The RB-VDS is a processor-based vehicle presence detection system to be substituted for buried inductive loop detectors at four-quadrant gate crossings. The system provides radar sensors to detect the presence of moving or stopped vehicles in up to 10 lanes and up to 16 user-configured detection zones. Exit gates are kept in a raised position until the RB-VDS confirms that no vehicles are in the crossing island.

FRA is providing public notice that the railroad's IF and related documents have been placed in the docket listed above and are available for public inspection. FRA is not accepting public comment or notice regarding these documents is provided for information only.

Copies of the petitions, as well as any written communications concerning the petitions, are available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on September 22, 2014.
Ron Hynes,
Director, Office of Safety Assurance and Compliance.

[FR Doc. 2014-22878 Filed 9-25-14; 8:45 am]

BILLING CODE 4910-06-P